DEPARTMENT OF COMMERCE

National Oceanic and Atmospheric Administration

Correction to Proposed Information Collection; Comment Request; Omnibus Notice for Compliance of National Marine Fisheries Service Permits With the Debt Collection Improvement Act of 1996

AGENCY: National Oceanic and Atmospheric Administration (NOAA), DOC.

ACTION: Correction.

This is to correct the notice of the same title published June 6, 2007, Volume 72, page 31289.

In addition to the information collections listed on June 6, 2007, this action applies to the following NOAA National Marine Fisheries Service permit collections:

OMB Control No.

1. 0648-0327, Atlantic Highly Migratory Species Permit Family of Forms.

2. 0648-0194, Antarctic Marine Living Marine Resources Conservation and Management Measures.

3. 0648-0387, International Dolphin Conservation Program.

The sentence following the original list should now read “All but five of these fifteen permit collections currently require some or most of this information.”

All other pertinent information still applies.

Dated: June 7, 2007.
Gwellnar Banks,
Management Analyst, Office of the Chief Information Officer.

[FR Doc. E7-11374 Filed 6-12-07; 8:45 am]

BILLING CODE 3510-22-P